FEDERAL COMMUNICATIONS COMMISSION

[DA 11-1925]

Notice of Debarment

AGENCY: Federal Communications Commission.

ACTION: Notice.

SUMMARY: The Enforcement Bureau (the “Bureau”) debars Mr. Barrett C. White from the schools and libraries universal service support mechanism (or “E-Rate Program”) for a period of three years. The Bureau takes this action to protect the E-Rate Program from waste, fraud and abuse.

DATES: Debarment commences on the date Mr. Barrett C. White receives the debarment letter or January 6, 2012, whichever date comes first, for a period of three years.

FOR FURTHER INFORMATION CONTACT: Joy Ragsdale, Federal Communications Commission, Enforcement Bureau, Investigations and Hearings Division, Room 4-C330, 445 12th Street SW., Washington, DC 20554. Joy Ragsdale may be contacted by phone at (202) 418-1697 or by email at Joy.Ragsdale@fcc.gov. If Ms. Ragsdale is unavailable, you may contact Ms. Terry Cavanaugh, Acting Chief, Investigations and Hearings Division, by telephone at (202) 418-1420 and by email at Theresa.Cavanaugh@fcc.gov.

SUPPLEMENTARY INFORMATION: The Bureau debarred Mr. Barrett C. White from the schools and libraries universal service support mechanism for a period of three years pursuant to 47 CFR 54.8. Attached is the debarment letter, DA 11-1925, which was mailed to Mr. Barrett C. White and released on November 21, 2011. The complete text of the notice of debarment is available for public inspection and copying during regular business hours at the FCC Reference Information Center, Portal II, 445 12th Street SW., Room CY-A257, Washington, DC 20554. In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Acting Chief, Investigations and Hearings Division, Enforcement Bureau.

The debarment letter follows:

November 21, 2011

DA 11-1925

VIA CERTIFIED MAIL RETURN RECEIPT REQUESTED AND E-MAIL

Mr. Barrett C. White

c/o Mr. H. Thomas Murphy III

H. Thomas Murphy, LLC

1029 Milan Street

New Orleans, LA 70115

Re: Notice of Debarment

File No. EB-11-IH-1075

Dear Mr. White:

The Federal Communications Commission (“Commission”) hereby notifies you that, pursuant to Section 54.8 of its rules, you are prohibited from participating in the schools and libraries universal service support mechanism (“E-Rate program”) for three years from either the date of your receipt of this Notice of Debarment, or of its publication in the Federal Register, whichever is earlier in time (“the Debarment Date”).¹

¹ 47 CFR 54.8(g) (2010). See also 47 CFR 0.111 (delegating authority to the Enforcement Bureau to resolve universal service suspension and debarment proceedings).

On July 27, 2011, the Commission's Enforcement Bureau (“Bureau”) sent you a Notice of Suspension and Initiation of Debarment Proceedings (“Notice of Suspension”) ² that was published in the Federal Register on August 25, 2011.³ The Notice of Suspension suspended you from participating in activities associated with or relating to the schools and libraries universal service support mechanism and described the basis for initiating debarment proceedings against you, the applicable debarment procedures, and the effect of debarment.⁴

² Letter from Theresa Z. Cavanaugh, Acting Chief, Investigations and Hearings Division, Enforcement Bureau, Federal Communications Commission to Mr. Barrett C. White, Notice of Suspension and Initiation of Debarment Proceedings, 26 FCC Rcd 10526 (Inv. & Hearings Div., Enf. Bur. 2011) (Attachment 1). An Erratum was published on August 9, 2011 (Attachment 2).

³ 76 FR 53127-01, August 25, 2011.

⁴ Notice of Suspension, 26 FCC Rcd at 10527.

As described in the Notice of Suspension, you were suspended from participating in activities associated with or relating to the schools and libraries universal service support mechanism as a result of your conviction for conspiring with others to defraud and obtain money from the E-Rate Program by controlling the application, bidding, and implementation process of the E-Rate program for schools located in four states.⁵ As further described in the Notice of Suspension, you conspired with owners of Global Network Technologies, Inc. (“GNT”) to offer and deliver $28,500 in bribes to school officials in exchange for steering E-Rate contract work to GNT.⁶ In furtherance of your scheme, you accepted fraudulent billing invoices from a school employee for services never provided by that employee,⁷ and concealed material facts concerning the source of your payments to school officials.⁸ For your role in the fraudulent scheme, you were sentenced to serve one year and one day in federal prison, followed by two years of supervised release for conspiring to defraud the E-Rate program.⁹ The court also ordered you to pay a $4,000 criminal fine.¹⁰ Pursuant to Section 54.8(c) of the Commission's rules, your conviction of criminal conduct in connection with the E-Rate program serves as a basis for your debarment.¹¹

⁵ United States v. Tyrone D. Pipkin, Criminal Docket No. 11-15 “A”, Plea Agreement (entered Mar. 29, 2011) (“Plea Agreement”). The conspiracy scheme involved schools in Arkansas, Florida, Illinois and Louisiana.

⁶ Notice of Suspension, 26 FCC Rcd at 10527.

⁷ Id.

⁸ Id.

⁹ Notice of Suspension, 26 FCC Rcd at 10527. See also United States v. Barrett C. White, Criminal Case No. 10-324-L, Factual Basis at 2 (E.D.La. filed Mar. 3, 2011).

¹⁰ United States v. Barrett C. White, Criminal Docket No. 10-324-L, Judgment at 5 (E.D.La. filed June 9, 2011).

¹¹ 47 CFR 54.8(c).

In accordance with the Commission's debarment rules, you were required to file with the Commission any opposition to your suspension or its scope, or to your proposed debarment or its scope, no later than thirty (30) calendar days from either the date of your receipt of the Notice of Suspension or of publication of the Notice of Suspension in the Federal Register, whichever is earlier in time.¹² The Commission did not receive any such opposition.

¹² 47 CFR 54.8(e)(3), (4). Any opposition had to be filed no later than August 30, 2011.

For the foregoing reasons, you are debarred for three years from the Debarment Date.¹³ During this debarment period, you are excluded from participating in any activities associated with or related to the E-Rate program, including the receipt of funds or discounted services through the schools and libraries support mechanism, or consulting with, assisting, or advising applicants or service providers regarding the schools and libraries support mechanism.¹⁴

¹³ 47 CFR 54.8(e)(5),(g). See also Notice of Suspension, 26 FCC Rcd at 10527.

¹⁴ 47 CFR 54.8(a)(1), (5), (d). See also Notice of Suspension, 26 FCC Rcd at 10527.

Sincerely,

Theresa Z. Cavanaugh

Acting Chief

Investigations and Hearings Division

Enforcement Bureau

cc: Johnnay Schrieber, Universal Service Administrative Company (via email)

Rashann Duvall, Universal Service Administrative Company (via email)

Juan Rodriguez, Antitrust Division, United States Department of Justice (via email)

Stephanie Toussaint, Antitrust Division, United States Department of Justice (via email)

[FR Doc. 2011-31400 Filed 12-6-11; 8:45 am]

BILLING CODE 6712-01-P